CORPORATION FOR NATIONAL AND COMMUNITY SERVICE

Proposed Information Collection; Submission for OMB Review; Comment Request

AGENCY: Corporation for National and Community Service.

ACTION: Notice.

SUMMARY: The Corporation for National and Community Service (hereinafter the “Corporation”), has submitted a public information collection request (ICR) entitled National Study of the Prevalence of Community Service and Service-Learning in K-12 Public Schools to the Office of Management and Budget (OMB) for review and approval in accordance with the Paperwork Reduction Act of 1995 (Pub. L. 104-13), (44 U.S.C. Chapter 35). A copy of the ICR, with applicable supporting documentation, may be obtained by calling the Corporation for National and Community Service, Kimberly Spring, 202-606-6629 (kspring@cns.gov). Individuals who use a telecommunications device for the deaf (TTY-TDD) may call (202) 565-2799 between 8:30 a.m. and 5 p.m. Eastern time, Monday through Friday.

ADDRESSES: Comments may be submitted, identified by the title of the information collection activity, to the Office of information and Regulatory Affairs, Attn: Ms. Katherine Astrich, OMB Desk Office for the Corporation for National and community Service, by any of the following two methods within 30 days from the date of publication in this Federal Register.

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Comments

A 60-day public comment Notice was published in the Federal Register on June 22, 2007. This comment period ended on August 22, 2007. No comments were received.

Description: The Corporation is seeking approval for a National Study of the Prevalence of Community Service and Service-Learning in K-12 Public Schools. The study will survey a nationally representative sample of 2,000 elementary, middle and high schools in the scale and scope of service-learning, as well as the presence of a variety of policies and practices in support of service-learning activities in the school. Respondents will be those school administrators and teachers, such as principals and service-learning coordinators, who are most knowledgeable about service-learning activities in the school. The survey will be administered by mail with the opportunity for respondents to complete the survey by phone.

Type of Review: New Collection.

Agency: Corporation for National and Community Service.

Title: National Study of the Prevalence of Community Service and Service-Learning in K-12 Public Schools.

OMB Number: 3045-New.

Affected Public: K-12 School Administrators.

Number of Respondents: 2000.

Frequency: One-time.

Average Time per Response: 21 minutes.

Estimated Total Burden Hours: 700.

Total Burden Cost (capital/startup): None.

Total Burden Cost (operating/maintenance): None.

Dated: December 19, 2007.
Robert Grimm,
Director, Department of Research and Policy Development.

[FR Doc. E7-25052 Filed 12-26-07; 8:45 am]

BILLING CODE 6050-$$-P